DEPARTMENT OF COMMERCE

National Oceanic and Atmospheric Administration

[I.D. 092304B]

Magnuson-Stevens Act Provisions; General Provisions for Domestic Fisheries; Application for Exempted Fishing Permits

AGENCY: National Marine Fisheries Service (NMFS), National Oceanic and Atmospheric Administration (NOAA), Department of Commerce.

ACTION: Notification of a proposal for exempted fishing permits to conduct experimental fishing; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one vessel to conduct fishing operations that are otherwise restricted by the regulations governing the fisheries of the Northeastern United States. The EFP may allow for exemptions from the NE multispecies days-at-sea (DAS) effort control program for up to 11 DAS for testing a bycatch reducing gear modification. Regulations under the Magnuson-Stevens Fishery Conservation and Management Act require publication of this notification to provide interested parties the opportunity to comment on applications for proposed EFPs.

DATES: Comments on this document must be received on or before October 14, 2004.

ADDRESSES: Comments on this notice may be submitted by e-mail. The mailbox address for providing e-mail comments is DA591@noaa.gov. Include in the subject line of the e-mail comment the following document identifier: “Comments on UNH Soft Grid Gear Modification EFP Proposal.” Written comments should be sent to Patricia A. Kurkul, Regional Administrator, NMFS, Northeast Regional Office, 1 Blackburn Drive, Gloucester, MA 01930. Mark the outside of the envelope “Comments on UNH Soft Grid Gear Modification EFP Proposal.” Comments may also be sent via facsimile (fax) to (978) 281-9135.

FOR FURTHER INFORMATION CONTACT: Brian Hooker, Fishery Policy Analyst, phone 978-281-9220.

SUPPLEMENTARY INFORMATION: Dr. Pingguo He of the University of New Hampshire Cooperative Extension (UNH) submitted an application for an EFP on May 27, 2004. This is a continuation of a project that started in 2002. Due to gear modifications, tank flume tests, and poor weather conditions the sea trails were not completed in the 2003-2004 fishing year. This EFP would authorize one commercial vessel to conduct sea trials using a soft grid finfish excluder device. The objective of the research is to test gear to separate flatfish from roundfish in trawl nets and to reduce the bycatch of roundfish, particularly cod, when fishing for flatfish. The separation device is designed to exploit behavioral differences that exist between the species.

The design consists of a trawl net with a soft panel, or ramp, that would be positioned in front of a double codend. It would take advantage of the tendency for flatfish to swim toward the ocean bottom after encountering the separation panel and thereby into the lower codend portion of the net. Roundfish, which are not expected to swim toward the sea floor after encountering the panel, would swim into the upper codend portion of the net, which would be left open under normal fishing practices where the vessel was targeting flatfish. However, for the purposes of this experiment both codends will remain closed in order to quantify separation success. The net would also utilize visual stimuli fixed forward of the codend to test changes in swimming behavior in roundfish and flatfish in response to the stimuli. Underwater videography would be employed to observe fish behavior and functioning of the experimental selectivity device.

The sea trials would be conducted in shallow water (30 to 50 fathoms (55 to 91 m)) off the coasts of New Hampshire, southern Maine, and a small portion of northern Massachusetts. UNH researchers would be aboard the vessel at all times during the experimental work. The at-sea portion of the experiment would last no longer than 11 fishing days in the 2004 fishing year. Based upon the catch rates from eight days of fishing in the 2003 fishing year, the following catch is estimated for the 2004 fishing year: Cod 2,846 lb (1,291 kg); American plaice 274 lb (124 kg); witch flounder 1,547 lb (702 kg); haddock 34 lb (15 kg); pollock 11 lb (5 kg); yellowtail flounder 87 lb (40 kg); winter flounder 50 lb (23 kg), and white hake 140 lb (64 kg). All undersized fish would be returned to the sea as quickly as possible. Legal-sized fish that would otherwise have to be discarded would be allowed to be retained and sold within the applicable Gulf of Maine (GOM) possession limits. The participating vessel would be required to report all landings in its Vessel Trip Report.

Authority: 16 U.S.C. 1801 et seq.

Dated: September 23, 2004.
Alan D. Risenhoover,
Acting Director, Office of Sustainable Fisheries, National Marine Fisheries Service.

[FR Doc. E4-2403 Filed 9-28-04; 8:45 am]

BILLING CODE 3510-22-S